DEPARTMENT OF ENERGY

Federal Energy Regulatory Commission

[Project No. 14432-000]

Archon Energy 1, Inc.; Notice of Intent To File License Application, Filing of Pre-Application Document, and Approving Use of the Traditional Licensing Process

a. Type of Filing: Notice of Intent to File License Application and Request to Use the Traditional Licensing Process.

b. Project No.: 14432-000.

c. Date Filed: July 9, 2012.

d. Submitted By: Archon Energy 1, Inc. (Archon).

e. Name of Project: 3-MW DaGuerre Point Dam Hydroelectric Project.

f. Location: To be located at the U.S. Army Corps of Engineers' DaGuerre Point Dam, on the Yuba River, near the City of Marysville, Yuba County, California.

g. Filed Pursuant to: 18 CFR 5.3 of the Commission's regulations.

h. Potential Applicant Contact: Mr. Paul Grist, Archon Energy 1, Inc., 101 E. Kennedy Blvd., Suite 2800, Tampa, Florida 33602. (403) 618-2018.

i. FERC Contact: Kenneth Hogan at (202) 502-8434; or email at: kenneth.hogan@ferc.gov.

j. Archon filed its request to use the Traditional Licensing Process and provided public notice of its request on July 9, 2012. In a letter dated August 21, 2012, the Director of the Division of Hydropower Licensing approved Archon's request to use the Traditional Licensing Process.

k. With this notice, we are initiating informal consultation with: (a) The U.S. Fish and Wildlife Service and/or NOAA Fisheries under section 7 of the Endangered Species Act and the joint agency regulations thereunder at 50 CFR part 402; (b) NOAA Fisheries under section 305(b) of the Magnuson-Stevens Fishery Conservation and Management Act and implementing regulations at 50 CFR 600.920; and (c) the Utah State Historic Preservation Officer, as required by section 106, National Historical Preservation Act, and the implementing regulations of the Advisory Council on Historic Preservation at 36 CFR 800.2.

l. With this notice, we are designating Archon as the Commission's non-federal representative for carrying out informal consultation, pursuant to section 7 of the Endangered Species Act.

m. Archon filed a Pre-Application Document (PAD) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via email of new filing and issuances related to this or other pending projects. For assistance, contact FERC Online Support.

Dated: August 21, 2012.
Kimberly D. Bose,
Secretary.

[FR Doc. 2012-21082 Filed 8-27-12; 8:45 am]

BILLING CODE 6717-01-P